DEPARTMENT OF ENERGY

Federal Energy Regulatory Commission

[Docket Nos. CP13-499-000; CP13-502-000]

Constitution Pipeline Company, LLC; Iroquois Gas Transmission System, LP; Notice of Availability of the Final Environmental Impact Statement for the Proposed Constitution Pipeline and Wright Interconnect Projects

The staff of the Federal Energy Regulatory Commission (FERC or Commission) has prepared a final environmental impact statement (EIS) for the Constitution Pipeline and Wright Interconnect Projects, proposed by Constitution Pipeline Company, LLC (Constitution) and Iroquois Gas Transmission System, L.P. (Iroquois) in the above-referenced dockets. Constitution and Iroquois request authorization to construct and operate certain interstate natural gas pipeline facilities in Pennsylvania and New York to deliver up to 650,000 dekatherms per day of natural gas supply to markets in New York and New England.

The final EIS assesses the potential environmental effects of the construction and operation of the Constitution Pipeline and Wright Interconnect Projects in accordance with the requirements of the National Environmental Policy Act (NEPA). The FERC staff concludes that approval of the proposed projects, would have some adverse environmental impacts; however, these impacts would be reduced to less-than-significant levels with the implementation of Constitution's and Iroquois' proposed mitigation and the additional measures recommended by staff in the final EIS.

The U.S. Environmental Protection Agency, the U.S. Army Corps of Engineers, the Federal Highway Administration, and the New York State Department of Agriculture and Markets participated as cooperating agencies in the preparation of the EIS. Cooperating agencies have jurisdiction by law or special expertise with respect to resources potentially affected by the proposal and participate in the NEPA analysis. The U.S. Army Corps of Engineers would adopt the final EIS if, after an independent review of the document, it concludes that its comments and suggestions have been satisfied.

The final EIS addresses the potential environmental effects of the construction and operation of the facilities in Susquehanna County, Pennsylvania and Broome, Chenango, Otsego, Delaware, and Schoharie Counties, New York. Constitution's project involves 124.4 miles of new 30-inch-diameter natural gas pipeline and appurtenant facilities that include two new meter stations, two pipe interconnections, ten communication towers, eleven mainline valves, and one pig launcher and receiver.¹ Iroquois' project facilities include the addition of 22,000 horsepower of incremental compression and other miscellaneous modifications to its existing Wright Compressor Station.

¹ A pig is an internal tool that can be used to clean and dry a pipeline and/or to inspect it for damage or corrosion.

The FERC staff mailed copies of the EIS to federal, state, and local government representatives and agencies; elected officials; environmental and public interest groups; Native American tribes; potentially affected landowners and other interested individuals and groups; newspapers and libraries in the project area; and parties to this proceeding. Paper copy versions of this EIS were mailed to those specifically requesting them; all others received a CD version. In addition, the EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the projects is available from the Commission's Office of External Affairs, at (866) 208-FERC, or on the FERC Web site (www.ferc.gov) using the eLibrary link. Click on the eLibrary link, click on “General Search,” and enter the docket number excluding the last three digits in the Docket Number field (i.e., CP13-499 or CP13-502). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: October 24, 2014.
Kimberly D. Bose,
Secretary.

[FR Doc. 2014-25896 Filed 10-30-14; 8:45 am]

BILLING CODE 6717-01-P